DEPARTMENT OF AGRICULTURE

Agricultural Marketing Service

[Docket # AMS-FV-2007-0036; FV-06-318]

United States Standards for Grades of Pineapples

AGENCY: Agricultural Marketing Service, USDA.

ACTION: Final notice.

SUMMARY: The Agricultural Marketing Service (AMS) of the Department of Agriculture (USDA) is revising the voluntary United States Standards for Grades of Pineapples. Specifically, AMS is replacing Tables I and II in the tolerances section with numerical tolerances and numerical application of tolerances. Decay tolerances will also be revised. This change will bring the standards for pineapples in line with current marketing practices, thereby, improving the usefulness of the standards in serving the industry.

EFFECTIVE DATE: March 10, 2008.

FOR FURTHER INFORMATION CONTACT: Vincent J. Fusaro, Standardization Section, Fresh Products Branch; (202) 720-2185. The revised United States Standards for Grades of Pineapples is available by accessing the AMS, Fresh Products Branch Web site at: http://www.ams.usda.gov/standards/stanfrfv.htm.

SUPPLEMENTARY INFORMATION: Section 203(c) of the Agricultural Marketing Act of 1946 (7 U.S.C. 1621-1627), as amended, directs and authorizes the Secretary of Agriculture “To develop and improve standards of quality, condition, quantity, grade and packaging and recommend and demonstrate such standards in order to encourage uniformity and consistency in commercial practices.” AMS is committed to carrying out this authority in a manner that facilitates the marketing of agricultural commodities and makes copies of official standards available upon request. The United States Standards for Grades of Fruits and Vegetables not connected with Federal Marketing Orders or U.S. Import Requirements, no longer appear in the Code of Federal Regulations, but are maintained by USDA, AMS, Fruit and Vegetable Programs.

AMS is revising the voluntary United States Standards for Grades of Pineapples using the procedures that appear in Part 36, Title 7 of the Code of Federal Regulations (7 CFR part 36).

Background

Prior to undertaking detailed work to develop a proposed revision to the standards, AMS published a notice on September 21, 2006, in the Federal Register (71 FR 55160), soliciting comments on a possible revision of the United States Standards for Grades of Pineapples. Based on comments received and information gathered, a second notice was published on August 15, 2007, in the Federal Register (72 FR 45724), proposing to revise the standards by replacing Tables I and II in the tolerances section with numerical tolerances and numerical application of tolerances. Decay tolerances were also proposed for revision. In response to this notice AMS received two supporting comments and one opposing comment. The comments are available by accessing the http://www.regulations.gov Web site.

The two supporting comments stated that the revision would facilitate the marketing of pineapples and make the standards for pineapples more uniform. The opposing commentor did not feel the revision was necessary at this time due to more pressing issues, which were not elaborated on by the commentor.

Based on comments received and information gathered, AMS is revising the pineapple standards by replacing Tables I and II in the tolerances section with numerical tolerances and numerical application of tolerances, as well as revising the decay tolerances.

The official grade of a lot of pineapples covered by these standards will be determined by the procedures set forth in the Regulations Governing Inspection, Certification, and Standards of Fresh Fruits, Vegetables and Other Products (Sec. 51.1 to 51.61).

The United States Standards for Grades of Pineapples will be effective 30 days after publication of this notice in the Federal Register.

Authority: 7 U.S.C. 1621-1627.

Dated: February 1, 2008.
Lloyd C. Day,
Administrator, Agricultural Marketing Service.

[FR Doc. E8-2196 Filed 2-6-08; 8:45 am]

BILLING CODE 3410-02-P